FEDERAL COMMUNICATIONS COMMISSION

FCC To Hold Special Commission Meeting; Friday, October 24, 2014

October 17, 2014.

The Federal Communications Commission will hold a Special Commission Meeting on the subject listed below on Friday, October 24, 2014. The meeting is scheduled to commence at 2:30 p.m. in Room TW-C305, at 445 12th Street SW., Washington, DC.

Item number | Bureau | Subject
1 | ENFORCEMENT | TITLE: Enforcement Bureau Action.
|  | SUMMARY: The Commission will consider whether to take an enforcement action.

Additional information concerning this meeting may be obtained from Mark Wigfield, Office of Media Relations, (202) 418-0253; TTY 1-888-835-5322.

Copies of materials adopted at this meeting can be purchased from the FCC's duplicating contractor, Best Copy and Printing, Inc. (202) 488-5300; Fax (202) 488-5563; TTY (202) 488-5562.

These copies are available in paper format and alternative media, including large print/type; digital disk; and audio and video tape. Best Copy and Printing, Inc. may be reached by email at FCC@BCPIWEB.com.

Federal Communications Commission.
Gloria J. Miles,
Federal Register Liaison Officer.

[FR Doc. 2014-25554 Filed 10-27-14; 8:45 am]

BILLING CODE 6712-01-P